CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps Application Instructions for review and approval in accordance with the Paperwork Reduction Act of 1995, Public Law 104-13, (44 U.S.C. Chapter 35). Copies of this ICR, with applicable supporting documentation, may be obtained by calling the Corporation for National and Community Service, Jennifer Bastress Tahmasebi, at 202-606-6667 or email to jbastresstahmasebi@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Jasmeet Seehra, OMB Desk Officer for the Corporation for National and Community Service, by any of the following two methods within 30 days from the date of publication in the Federal Register:

(1) By fax to: 202-395-6974, Attention: Ms. Jasmeet Seehra, OMB Desk Officer for the Corporation for National and Community Service; or

(2) By email to: Jasmeet_K._Seehra@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on 8/19/2013. This comment period ended 10/18/2013. Six entities provided comments. Many of the comments addressed the content of the FY2013 AmeriCorps State and National Notice of Funding Opportunity. CNCS will address these comments through a different forum. The comments related to the Application Instructions are addressed below.

Two commenters asked that if CNCS releases multiple versions of the Application Instructions that they be dated. CNCS will date all versions of the Applications Instructions moving forward.

Three commenters asked that CNCS raise the applicant burden to 80 hours to account for both the initial application preparation as well as the reworking of the application based on State Commission review and feedback. In response to the comments, CNCS will raise the applicant burden to 80 hours to ensure that the burden estimate provides the public, especially new applicants, with adequate notice of the time required to prepare an application. We expect that many applicants will be able to complete the application in less than 80 hours, but support providing notice to applicants that will allow them to budget time effectively.

Two commenters asked if the fields “Total Private Match” and “Total Local, State, and Federal Government Match” will be populated by the “Total Match” amount captured in the budget. No. The “Total Match” amount captured in the budget is a combination of private and government match. CNCS is interested in breaking out the match into two categories.

Two commenters asked the purpose of requesting “Leveraged funds,” if there was a requirement to track those funds, and what repercussions would there be if an applicant raised leverage funds that were either above or below the expected amount. The collection of “Leveraged funds” enables CNCS to better understand the total cost of running an AmeriCorps program. For cost reimbursement applicants, funding in addition to the CNCS share and the required match may be required to run an AmeriCorps program. For fixed amount applicants, funding in addition to the CNCS share is required to run an AmeriCorps program. There is no requirement to track leveraged funds as long as successful applicants have adequate resources to sustain program operations. If there are sufficient funds to operate successfully, there are no repercussions should the applicant raise more or less of the anticipated “Leveraged Funds” amount.

One commenter asked for definitions for “episodic” and “ongoing” volunteers. CNCS has provided those definitions in the FY2013 AmeriCorps State and National Notice of Funding Opportunity.

One commenter asked if the operating sites chart will be provided to State Commissions as part of the consultative process that takes place between National Direct applicants and State Commissions. CNCS plans to incorporate the operating site data into the state profiles, which are updated annually and available for Commission use. At this time, CNCS does not have plans to share this information with state commissions to facilitate the National Direct—State Commission consultative process, largely due to egrants system limitations.

Description: CNCS is seeking approval of AmeriCorps Application Instructions, which is used by Nonprofit organizations and State, Local, and Tribal Governments to apply for AmeriCorps funding.

Type of Review: Renewal.

Agency: Corporation for National and Community Service.

Title: AmeriCorps Application Instructions: State Commissions; State and National Competitive; Professional Corps, Indian Tribes; State and Territories without Commissions; and State and National Planning.

OMB Number: 3045-0047.

Agency Number: None.

Affected Public: Nonprofit organization, State, Local and Tribal.

Total Respondents: 2,000.

Frequency: Annually or as grant solicitations require.

Average Time per Response: 80 hours.

Estimated Total Burden Hours: 160,000 hours.

Total Burden Cost (capital/startup): None.

Total Burden Cost (operating/maintenance): None.

Dated: November 4, 2013.
Bill Basl,
Director, AmeriCorps.

[FR Doc. 2013-26782 Filed 11-7-13; 8:45 am]

BILLING CODE 6050-28-P